DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 18, 2015.

FOR FURTHER INFORMATION CONTACT: Ms. Lorenza Wilds, IRSAC Program Manager, National Public Liaison, CL: NPL, 7559, 1111 Constitution Avenue NW., Washington, DC 20224. Telephone: 202-317-6851 (not a toll-free number). Email address: PublicLiaison@irs.gov.

SUPPLEMENTARY INFORMATION: Notice is hereby given pursuant to section 10(a)(2) of the Federal Advisory Committee Act, 5 U.S.C. App. (1988), a public meeting of the IRSAC will be held on Wednesday, November 18, 2015, from 9:20 a.m. to 1:15 p.m. at the Marriott Wardman Park Hotel, 2660 Woodley Road NW., Virginia Ballroom, Washington, DC 20008. Issues to be discussed include, but not limited to: The IRS Needs Sufficient Funding to Operate Efficiently and Effectively, Provide Timely and Useful Guidance and Assistance to Taxpayers, and Enforce Current Law, so that Respect for our Voluntary Tax System is Maintained, Identity Authentication of 1040 Forms, Review of Offer in Compromise (OIC) Form and Booklet 656-B, and Collection Information Forms 433-A, 433-B, and 433-F to Improve Taxpayer Compliance and Successful Utilization, Improving Penalty Administration—General Comments and Recommendations, Application of Qualified Amended Return Rules to Regularly Examined Taxpayers in a Post-CIC Environment, Continuity of Independence, Strength, and Visibility of the Office of Professional Responsibility, Applications of Appraisal Standards Consistent with the Uniform Standards of Professional Appraisal Practice (USPAP). Last minute agenda changes may preclude advanced notice. The meeting room accommodates approximately 80 people, IRSAC members and Internal Revenue Service officials inclusive. Due to limited seating, please call Lorenza Wilds to confirm your attendance. Ms. Wilds can be reached at 202-317-6851. Attendees are encouraged to arrive at least 30 minutes before the meeting begins. Should you wish the IRSAC to consider a written statement, please write to Internal Revenue Service, Office of National Public Liaison, CL:NPL:7559, 1111 Constitution Avenue NW., Washington, DC 20224, or email PublicLiaison@irs.gov.

Dated: October 26, 2015.
Candice Cromling,
Director, National Public Liaison.

[FR Doc. 2015-27809 Filed 10-30-15; 8:45 am]

BILLING CODE 4830-01-P